DEPARTMENT OF THE INTERIOR

National Park Service

[NPS-WASO-NRSS-0811-8097; 9865-PZS]

Information Collection Sent to the Office of Management and Budget (OMB) for Approval; Community Harvest Assessments for Alaskan National Parks, Preserves, and Monuments

AGENCY: National Park Service (NPS), Interior.

ACTION: Notice; request for comments.

SUMMARY: We (National Park Service) will ask the Office of Management and Budget (OMB) to approve the Information Collection Request (ICR) described below (OMB Control No. 1024-New). As required by the Paperwork Reduction Act of 1995 and as part of our continuing efforts to reduce paperwork and respondent burden, we invite the general public and other Federal agencies to take this opportunity to comment on this ICR. We may not conduct or sponsor, and a person is not required to respond to, a collection of information unless it displays a currently valid OMB control number.

DATES: Public comments must be submitted on or before October 4, 2011.

ADDRESSES: Please send your comments to the ICR to Phadrea Ponds, Information Collections Coordinator, National Park Service, 1201 Oakridge Drive, Fort Collins, CO 80525 (mail); or phadrea_ponds@nps.gov (e-mail). Please reference Information Collection 1024-NEW, Community Harvest Assessments.

FOR FURTHER INFORMATION CONTACT: Barbara Cellarius, PhD, Wrangell-St. Elias National Park and Preserve, PO Box 439, Copper Center, AK 99573; barbara_cellarius@nps.gov (e-mail); or 907-822-7236 (phone). You are entitled to a copy of the entire ICR package free-of-charge. You may access this ICR at http://www.reginfo.gov.

SUPPLEMENTARY INFORMATION: OMB Number: 1024-New (This is a new collection.)

Title: Community Harvest Assessments for Alaskan National Parks, Preserves, and Monuments.

Service Form Number: None.

Type of Request: New.

Description of Respondents: Individual households eligible to engage in subsistence hunting, fishing, trapping, and gathering under NPS and Federal Subsistence Program regulations in Gates of the Arctic and Wrangell-St. Elias National Parks and Preserves.

Respondent's Obligation: Voluntary.

Frequency of Collection: One-time; on occasion.

Estimated Number of Annual Responses: 354.

Annual Burden Hours: 413 hours. We estimate the public reporting burden averages 10 minutes per initial contact and 60 minutes per completed survey.

Estimated Annual Nonhour Burden Cost: None.

Abstract: The National Park Service (NPS) Act of 1916, 38 Stat 535, 16 U.S.C. 1, et seq., requires that the NPS preserve national parks for the use and enjoyment of present and future generations. At the field level, this means resource preservation, public education, facility maintenance and operation, and physical developments that are necessary for public use, health, and safety.

National parks, preserves and monuments in Alaska created or expanded in 1980 under the Alaska National Interest Lands Conservation Act (ANILCA) provide the opportunity for qualified rural residents to harvest fish, wildlife, and other subsistence resources. Section 812 of ANILCA states, “The Secretary [of the Interior], in cooperation with the State and other appropriate Federal agencies, shall undertake research on fish and wildlife and subsistence uses on the public lands.” To develop resource management strategies for the parklands, the NPS needs information on harvest patterns among residents of communities with subsistence eligibility, resource distribution systems, and the impact of the changing rural economy on subsistence activities. A survey will be used to estimate subsistence harvests and to describe community subsistence economies. This project will survey residents of several communities in Wrangell-St. Elias National Park and Preserve and Gates of the Arctic National Park and Preserve on these topics. The surveyed communities have been designated as resident zone communities for the respective park in recognition that many residents of these communities have customarily and traditionally engaged in subsistence uses within a national park or monument. The resulting information will assist park managers in their subsistence management responsibilities and will also be of use to local and regional advisory councils in making recommendations and by the State of Alaska and the Federal Subsistence Board in making decisions regarding the management of fish and wildlife in the region.

Comments: Comments are invited on: (1) The practical utility of the information being gathered; (2) the accuracy of the burden hour estimate; (3) ways to enhance the quality, utility, and clarity of the information to be collected; and (4) ways to minimize the burden to respondents, including use of automated information techniques or other forms of information technology.

Please note that the comments submitted in response to this notice are a matter of public record. We will include or summarize each comment in our request to OMB to approve this IC. Before including your address, phone number, e-mail address, or other personal identifying information in your comment, you should be aware that your entire comment, including your personal identifying information, may be made publicly available at any time. While you can ask OMB in your comment to withhold your personal identifying information from public review, we cannot guarantee that it will be done.

Dated: August 1, 2011.
Robert M. Gordon,
Information Collection Clearance Officer, National Park Service.

[FR Doc. 2011-19834 Filed 8-4-11; 8:45 am]

BILLING CODE 4312-52-P